DEPARTMENT OF HOMELAND SECURITY

Federal Emergency Management Agency

[Docket ID FEMA-2021-0002; Internal Agency Docket No. FEMA-B-2129]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 5, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2129, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Larimer County, Colorado and Incorporated Areas
Project: 19-08-0002S Preliminary Date: January 26, 2021
City of Fort Collins | Stormwater Utilities Department, 700 Wood Street, Fort Collins, CO 80521.
City of Loveland | Public Works Department, 2525 West 1st Street, Loveland, CO 80537.
Town of Estes Park | Town Hall, 170 MacGregor Avenue, Estes Park, CO 80517.
Town of Johnstown | Town Hall, 450 South Parish Avenue, Johnstown, CO 80534.
Town of Timnath | Town of Timnath Map Repository, TST Inc., 748 Whalers Way, Fort Collins, CO 80525.
Town of Wellington | Town Hall, 3735 Cleveland Avenue, Wellington, CO 80549.
Unincorporated Areas of Larimer County | Larimer County Courthouse, Offices Building, 200 West Oak Street, Suite 3000, Fort Collins, CO 80521.
Montour County, Pennsylvania (All Jurisdictions)
Project: 15-03-0227S Preliminary Date: October 30, 2020
Borough of Danville | Municipal Building, 463 Mill Street, Danville, PA 17821.
Township of Mahoning | Township of Mahoning Municipal Building, 849 Bloom Road, Danville, PA 17821.
Dallas County, Texas and Incorporated Areas
Project: 20-06-0070S Preliminary Date: November 13, 2020
City of Carrollton | Engineering Department, 1945 East Jackson Road, Carrollton, TX 75006.
City of Cedar Hill | Public Works Department, 285 Uptown Boulevard, Cedar Hill, TX 75104.
City of Combine | City Hall, 123 Davis Road, Combine, TX 75159.
City of Coppell | City Engineering Department, 265 East Parkway Boulevard, Coppell, TX 75019.
City of Dallas | Dallas Water Utilities, Stormwater Operations, 320 East Jefferson Boulevard, Room 312, Dallas, TX 75203.
City of Duncanville | Public Works Department, 203 East Wheatland Road, Duncanville, TX 75116.
City of Farmers Branch | Public Works Department, 13000 William Dodson Parkway, Farmers Branch, TX 75234.
City of Grand Prairie | Municipal Complex, Stormwater Department, 300 West Main Street, Grand Prairie, TX 75050.
City of Hutchins | City Hall, 321 North Main Street, Hutchins, TX 75141.
City of Irving | Capital Improvement Program Department, 825 West Irving Boulevard, Irving, TX 75060.
City of Lancaster | Development Services, 700 East Main Street, Lancaster, TX 75146.
City of Mesquite | Engineering Division, 1515 North Galloway Avenue, Mesquite, TX 75149.
City of Seagoville | City Hall, 702 North Highway 175, Seagoville, TX 75159.
City of University Park | University Park Community Development Department, 4420 Worcola Street, Dallas, TX 75206.
City of Wilmer | Public Works Department, 128 North Dallas Avenue, Wilmer, TX 75172.
Town of Addison | Service Center, Public Works and Engineering, 16801 Westgrove Drive, Addison, TX 75001.
Town of Sunnyvale | Development Services Department, 127 North Collins Road, Sunnyvale, TX 75182.
Unincorporated Areas of Dallas County | Dallas County Public Works Department, 411 Elm Street, 4th Floor, Dallas, TX 75202.
Tarrant County, Texas and Incorporated Areas
Project: 20-06-0071S Preliminary Date: November 13, 2020
City of Arlington | City Hall, 101 West Abram Street, Arlington, TX 76010.
City of Bedford | Engineering Department, 1805 L. Don Dodson Drive, Bedford, TX 76021.
City of Benbrook | City Hall, 911 Winscott Road, Benbrook, TX 76126.
City of Colleyville | Public Works—Engineering Division, 100 Main Street, 2nd Floor, Colleyville, TX 76034.
City of Dalworthington Gardens | City Hall, 2600 Roosevelt Drive, Dalworthington Gardens, TX 76016.
City of Euless | City Hall, 201 North Ector Drive, Euless, TX 76039.
City of Forest Hill | City Hall, 3219 California Parkway, Forest Hill, TX 76119.
City of Fort Worth | Department of Transportation and Public Works, 200 Texas Street, 2nd Floor, Fort Worth, TX 76102.
City of Grand Prairie | Municipal Complex, Stormwater Department, 300 West Main Street, Grand Prairie, TX 75050.
City of Grapevine | City Hall, 200 South Main Street, Grapevine, TX 76051.
City of Haltom City | Municipal Services Center, 4200 Hollis Street, Haltom City, TX 76117.
City of Haslet | City Hall, 101 Main Street, Haslet, TX 76052.
City of Hurst | City Hall, Engineering Division, 1505 Precinct Line Road, Hurst, TX 76054.
City of Keller | City Hall, 1100 Bear Creek Parkway, Keller, TX 76248.
City of Kennedale | City Hall, 405 Municipal Drive, Kennedale, TX 76060.
City of Mansfield | City Hall, 1200 East Broad Street, Mansfield, TX 76063.
City of North Richland Hills | City Hall 4301 City Point Drive, 1st Floor, North Richland Hills, TX 76180.
City of Richland Hills | City Hall, 3200 Diana Drive, Richland Hills, TX 76118.
City of River Oaks | City Hall, 4900 River Oaks Boulevard, River Oaks, TX 76114.
City of Saginaw | City Hall, 333 West McLeroy Boulevard, Saginaw, TX 76179.
City of Southlake | Public Works Department, Administrative and Engineering, 1400 Main Street, Suite 320, Southlake, TX 76092.
City of Watauga | Service Center, Public Works, 7800 Virgil Anthony Boulevard, 1st Floor, Watauga, TX 76148.
City of Westworth Village | City Hall, 311 Burton Hill Road, Westworth Village, TX 76114.
City of White Settlement | Administration Building, 214 Meadow Park Drive, White Settlement, TX 76108.
Town of Pantego | Town Hall, 1614 South Bowen Road, Pantego, TX 76013.
Unincorporated Areas of Tarrant County | Tarrant County Transportation Department—Engineering, 100 East Weatherford Street, Suite 401, Fort Worth, TX 76196.
City of Fairfax, Virginia, Independent City
Project: 14-03-3327S Preliminary Date: September 25, 2020
City of Fairfax | Department of Public Works, 10455 Armstrong Street, City Hall Annex, Room 200 A, Fairfax, VA 22030.

[FR Doc. 2021-09631 Filed 5-6-21; 8:45 am]

BILLING CODE 9110-12-P